DEPARTMENT OF ENERGY

Federal Energy Regulatory Commission

[Docket No. AD14-18-000]

Joint Technical Conference on New York Markets & Infrastructure; Notice of Joint Technical Conference

Take notice that the Federal Energy Regulatory Commission (Commission), jointly with New York Public Service Commission, will hold a Commissioner-led technical conference on New York markets and infrastructure. The technical conference will take place on November 5, 2014 from approximately 9:30 a.m. to approximately 5:00 p.m. The conference will be held in the New York Institute of Technology Auditorium located at 1871 Broadway, between 61st and 62nd Streets, New York, NY 10023.

The purpose of the technical conference is to discuss issues of mutual interest and concern regarding the installed capacity market and energy infrastructure in New York. Specifically, this technical conference will provide an opportunity to review the role of New York's centralized capacity market in attracting investment and ensuring resource adequacy and reliability.

A supplemental notice will be issued prior to the technical conference with further details regarding the agenda and organization of the technical conference. Those interested in attending the technical conference are encouraged to register at the following Web page: https://www.ferc.gov/whats-new/registration/11-05-14-form.asp.

FERC conferences are accessible under section 508 of the Rehabilitation Act of 1973. For accessibility accommodations please send an email to accessibility@ferc.gov or call toll free (866) 208-3372 (voice) or (202) 502-8659 (TTY), or send a fax to (202) 208-2106 with the requested accommodations.

For more information about the technical conference, please contact:

Kathleen Schnorf (Technical Information), Office of Energy Market Regulation, Federal Energy Regulatory Commission, 888 First Street NE., Washington, DC 20426, (202) 502-8547, Kathleen.Schnorf@ferc.gov.

Betty Watson (Technical Information), Office of Energy Policy and Innovation, Federal Energy Regulatory Commission, 888 First Street NE., Washington, DC 20426, (202) 502-8552, Betty.Watson@ferc.gov.

Kate Hoke (Legal Information), Office of General Counsel, Federal Energy Regulatory Commission, 888 First Street NE., Washington, DC 20426, (202) 502-8404, Katheryn.Hoke@ferc.gov.

Sarah McKinley (Logistical Information), Office of External Affairs, Federal Energy Regulatory Commission, 888 First Street NE., Washington, DC 20426, (202) 502-8004, Sarah.McKinley@ferc.gov.

Dated: September 17, 2014.
Kimberly D. Bose,
Secretary.

[FR Doc. 2014-22645 Filed 9-23-14; 8:45 am]

BILLING CODE 6717-01-P